DEPARTMENT OF THE INTERIOR

Bureau of Land Management

[19XL LLIDB00100 LF1000000.HT0000 LXSIOVHD0000 241A 4500129955]

Notice of Availability of the Record of Decision for the Bruneau-Owyhee Sage-Grouse Habitat Project, Idaho

AGENCY: Bureau of Land Management, Interior.

ACTION: Notice of availability.

SUMMARY: In accordance with the National Environmental Policy Act of 1969, as amended, and the Federal Land Policy and Management Act of 1976, as amended, the Bureau of Land Management (BLM) announces the availability of the Record of Decision (ROD) for the Bruneau-Owyhee Sage-grouse Habitat (BOSH) Project.

ADDRESSES: Copies of the Bruneau-Owyhee Sage-grouse Habitat Project ROD are available for public inspection at the BLM Boise District Office, 3948 S Development Avenue, Boise, Idaho, and at the BLM Owyhee Field Office, 20 First Avenue West, Marsing, Idaho. Interested persons may also review the ROD at goo.gl/eNFS9K.

FOR FURTHER INFORMATION CONTACT: Mike McGee, Resource Coordinator, telephone (208) 384-3300; address 3948 S Development Ave. Boise, ID, 83705; email blm_id_bruneauowyheesagegrouse@blm.gov. Persons who use a telecommunications device for the deaf (TDD) may call the Federal Relay Service (FRS) at (800) 877-8339 to contact Mr. McGee. The FRS is available 24 hours a day, 7 days a week, to leave a message or question with Mr. McGee. You will receive a reply during normal business hours.

SUPPLEMENTARY INFORMATION: The Boise District BLM, in collaboration with the Idaho Department of Fish and Game, the Natural Resources Conservation Service, the U.S. Fish and Wildlife Service, the Idaho Department of Lands, and the Idaho Governor's Office of Species Conservation, proposed the BOSH Project to treat up to 617,000 acres of early-stage western juniper encroachment in southwestern Idaho. The conversion of sagebrush-steppe communities to juniper woodlands is a major threat to greater sage-grouse in southwestern Idaho. As junipers encroach into sagebrush habitat, sagebrush-steppe vegetation eventually dies because it is unable to compete with junipers for water, nutrients, space and sunlight.

The BLM will use several treatment methods to remove early-stage western juniper, include hand-cutting, prescribed fire and mastication.

The BLM began meeting with internal groups and external collaborators to discuss and develop the project proposal in 2013. The BLM held a 30-day public scoping period from January 20 to February 20, 2015, to collect comment and feedback that would aid the BLM in project development. Comments concerned effects to wildlife habitat (especially sage-grouse and migratory birds), soils, native plant communities, sensitive plants, spread of noxious and invasive weeds, hydrology and riparian areas, fisheries, wilderness values, visual resources, Areas of Critical Environmental Concern, recreation, cultural resources and social values.

The BLM published the Draft EIS for BOSH on November 18, 2016. The BLM considered and incorporated comments into the Final EIS. Public comments resulted in clarifications, but did not significantly change alternatives considered.

In response to public comment, the BLM (1) modified focal treatment areas to reflect updated vegetation data and to remove some Areas of Critical Environmental Concern; (2) developed Alternative C1, which expanded project boundaries to increase connectivity between treatment areas and include additional habitat; (3) removed all wilderness areas from treatment boundaries, and (4) added a carbon sequestration analysis.

The BLM released the Final EIS for the BOSH Project on February 9, 2018. On February 5, 2019, Joseph R. Balash, the Department of the Interior's Assistant Secretary for Land and Minerals Management, signed a Record of Decision selecting Alternative C1 for implementation. That approval constitutes the final decision of the Department and, in accordance with the regulations at 43 CFR 4.410, is not subject to appeal under Departmental regulations found in 43 CFR part 4.

Any challenge to this decision must be brought in the Federal District Court and is subject to 42 U.S.C. 4370m-6.

Authority: 40 CFR 1506.6, 40 CFR 1506.10.

Joseph R. Balash,
Assistant Secretary, Land and Minerals Management.

[FR Doc. 2019-02095 Filed 2-12-19; 8:45 am]

BILLING CODE 4310-GG-P